COMMISSION ON CIVIL RIGHTS

Sunshine Act Meeting

AGENCY: U.S. Commission on Civil Rights.

DATE AND TIME: Friday, September 13, 2001, 9:30 a.m.

PLACE: U.S. Commission on Civil Rights, 624 Ninth Street, NW., Room 540, Washington, DC 20425.

STATUS:

Agenda

I. Approval of Agenda

II. Approval of Minutes of July 13, 2001 Meeting

III. Announcements

IV. Staff Director's Report

V. FY-2003 Budget Estimate to OMB

VI. Recommendations to Congress for National Electoral Reform

VII. Future Agenda Items

11 a.m. Briefing on Environmental Justice

CONTACT PERSON FOR FURTHER INFORMATION: David Aronson, Press and Communications, (202) 376-8312.

Les Jin,
Staff Director.

[FR Doc. 01-22536 Filed 9-4-01; 2:21 pm]

BILLING CODE 6335-01-M